DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5:00 P.M. in Suite 4100W, U.S. Department of Commerce, Franklin Court Building, 1099 14th Street, NW, Washington, DC.

Docket Number: 02-009. Applicant: The University of Akron, 302 E. Buchtel Avenue, Akron, OH 44325. Instrument: Shielded Room (Low Field Cage) MMLFC. Manufacturer: Magnetic Measurements Ltd., United Kingdom. Intended Use: The instrument is intended to be used to study remanent magnetic properties of sediments using samples from a variety of geologic settings such as lakes, river terraces and loess-soil profiles. Also, the instrument will be used in the following courses: (1) Environmental Magnetism (3370:444/544), (2) Research Problems in Geology (3370:499) and (3) Master's thesis (3370:699). Application accepted by Commissioner of Customs: March 21, 2002.

Docket Number: 02-011. Applicant: University of Wisconsin—Milwaukee, Department of Physics, 1900 E. Kenwood Blvd., Milwaukee, WI 53211. Instrument: IR Image Furnace, Model SCI-MDH-11020. Manufacturer: NEC Machinery Corporation, Japan. Intended Use: The instrument is intended to be used for the synthesis of single crystals of electronic-oxide materials using the “floating-zone” technique to study fundamental properties and mechanisms involved in materials which exhibit superconductivity, magnetism and ferro-electricity. Application accepted by Commissioner of Customs: March 21, 2002.

Gerald A. Zerdy,
Program Manager, Statutory Import Programs Staff.

[FR Doc. 02-9335 Filed 4-16-02; 8:45 am]

BILLING CODE 3510-DS-P